DEPARTMENT OF ENERGY

Federal Energy Regulatory Commission

Combined Notice of Filings #1

Take notice that the Commission received the following electric corporate filings:

Docket Numbers: EC16-117-000.

Applicants: Northern States Power Company, a Wisconsin corporation.

Description: Second Supplement to May 10, 2016 Application of Northern States Power Company, a Wisconsin corporation for Authorization under FPA Section 203 to Acquire Jurisdictional Assets.

Filed Date: 8/16/16.

Accession Number: 20160816-5184.

Comments Due: 5 p.m. ET 9/6/16.

Docket Numbers: EC16-168-000.

Applicants: NRG Renew LLC, Four Brothers Holdings, LLC, Granite Mountain Renewables, LLC, Iron Springs Renewables, LLC.

Description: Joint Application for Approval Under Section 203 of the Federal Power Act and Request for Expedited Action of NRG Renew LLC, et al.

Filed Date: 8/18/16.

Accession Number: 20160818-5339.

Comments Due: 5 p.m. ET 9/8/16.

Take notice that the Commission received the following exempt wholesale generator filings:

Docket Numbers: EG16-136-000.

Applicants: Boulder Solar II, LLC.

Description: Notice of Self-Certification of Exempt Wholesale Generator Status of Boulder Solar II, LLC.

Filed Date: 8/19/16.

Accession Number: 20160819-5125.

Comments Due: 5 p.m. ET 9/9/16.

Take notice that the Commission received the following electric rate filings:

Docket Numbers: ER10-2980-007; ER10-2983-007.

Applicants: Castleton Power, LLC, Castleton Energy Services, LLC.

Description: Notice of Non-Material Change in Status of Castleton Power, LLC, et al.

Filed Date: 8/19/16.

Accession Number: 20160819-5150.

Comments Due: 5 p.m. ET 9/9/16.

Docket Numbers: ER14-1933-004; ER13-1816-004; ER11-2935-006; ER10-2423-007; ER10-2414-005; ER10-2412-005; ER10-2411-005; ER10-2410-004; ER10-2409-004; ER10-2408-004; ER10-2406-005; ER10-2404-007; ER10-2399-004; ER10-2398-004.

Applicants: Blackstone Wind Farm, LLC, Blackstone Wind Farm II LLC, Flat Rock Windpower LLC, Flat Rock Windpower II LLC, Headwaters Wind Farm LLC, High Trail Wind Farm, LLC, Marble River, LLC, Meadow Lake Wind Farm II LLC, Meadow Lake Wind Farm III LLC, Meadow Lake Wind Farm IV LLC, Meadow Lake Wind Farm LLC, Old Trail Wind Farm, LLC, Paulding Wind Farm II LLC, Sustaining Power Solutions LLC.

Description: Supplement to August 10, 2016 Notice of Non-Material Change in Status of Blackstone Wind Farm, LLC, et al.

Filed Date: 8/19/16.

Accession Number: 20160819-5151.

Comments Due: 5 p.m. ET 9/9/16.

Docket Numbers: ER16-1922-001.

Applicants: Midcontinent Independent System Operator, Inc.

Description: Compliance filing: 2016-08-19_Amendment to tariff revisions for MPFPs to be effective 8/6/2015.

Filed Date: 8/19/16.

Accession Number: 20160819-5129.

Comments Due: 5 p.m. ET 9/9/16.

Docket Numbers: ER16-2441-000.

Applicants: Southern California Edison Company.

Description: Section 205(d) Rate Filing: DSA SBVMWD Waterman Hydroelectric Project to be effective 10/18/2016.

Filed Date: 8/18/16.

Accession Number: 20160818-5177.

Comments Due: 5 p.m. ET 9/8/16.

Docket Numbers: ER16-2442-000.

Applicants: Southern California Edison Company.

Description: Section 205(d) Rate Filing: Fast Track GIA and Service Agreement for SCE—PPA Project to be effective 8/19/2016.

Filed Date: 8/18/16.

Accession Number: 20160818-5271.

Comments Due: 5 p.m. ET 9/8/16.

Docket Numbers: ER16-2443-000.

Applicants: NextEra Blythe Solar Energy Center, LLC.

Description: Baseline eTariff Filing: NextEra Blythe Solar Energy Center, LLC MBR Application to be effective 8/19/2016.

Filed Date: 8/18/16.

Accession Number: 20160818-5330.

Comments Due: 5 p.m. ET 9/8/16.

Docket Numbers: ER16-2444-000.

Applicants: New York Independent System Operator, Inc.

Description: Compliance filing: NYISO compliance re: revenue allocation—sale of historic fixed price TCCs to be effective 10/18/2016.

Filed Date: 8/19/16.

Accession Number: 20160819-5147.

Comments Due: 5 p.m. ET 9/9/16.

Docket Numbers: ER16-2446-000.

Applicants: 4C Acquisition, LLC.

Description: Section 205(d) Rate Filing: 4CA Transfer of Functional Control Agreement to be effective 10/19/2016.

Filed Date: 8/19/16.

Accession Number: 20160819-5186.

Comments Due: 5 p.m. ET 9/9/16.

Docket Numbers: ER16-2447-000.

Applicants: Midcontinent Independent System Operator, Inc.

Description: Section 205(d) Rate Filing: 2016-08-19_SA 2837 Termination of NSP-North Star Solar PV LLC E&P (J385) to be effective 9/11/2016.

Filed Date: 8/19/16.

Accession Number: 20160819-5188.

Comments Due: 5 p.m. ET 9/9/16.

Docket Numbers: ER16-2448-000.

Applicants: Black Hills/Colorado Electric Utility Company, LP.

Description: Section 205(d) Rate Filing: Boone Transmission Interconnection Agreement to be effective 10/19/2016.

Filed Date: 8/19/16.

Accession Number: 20160819-5191.

Comments Due: 5 p.m. ET 9/9/16.

Docket Numbers: ER16-2449-000.

Applicants: Boulder Solar II, LLC.

Description: Initial rate filing: Market-Based Rate Tariff to be effective 9/1/2016.

Filed Date: 8/19/16.

Accession Number: 20160819-5192.

Comments Due: 5 p.m. ET 9/9/16.

Docket Numbers: ER16-2450-000.

Applicants: Arizona Public Service Company.

Description: Section 205(d) Rate Filing: Rate Schedule No. 287—Letter of Concurrence to be effective 10/19/2016.

Filed Date: 8/19/16.

Accession Number: 20160819-5204.

Comments Due: 5 p.m. ET 9/9/16.

Docket Numbers: ER16-2451-000.

Applicants: ISO New England Inc., New England Power Pool Participants Committee.

Description: Section 205(d) Rate Filing: Forward Capacity Market Enhancements to be effective 10/19/2016.

Filed Date: 8/19/16.

Accession Number: 20160819-5220.

Comments Due: 5 p.m. ET 9/9/16.

Docket Numbers: ER16-2452-000.

Applicants: Pacific Gas and Electric Company.

Description: Notice of Termination of Generator Special Facilities Service Agreement No. 83 of Pacific Gas and Electric Company.

Filed Date: 8/19/16.

Accession Number: 20160819-5225.

Comments Due: 5 p.m. ET 9/9/16.

Take notice that the Commission received the following electric securities filings:

Docket Numbers: ES16-53-000.

Applicants: MDU Resources Group, Inc.

Description: Application of MDU Resources Group, Inc. for authorization to issue securities and authorization to engage in methods of issuance other than competitive bidding and negotiated offers.

Filed Date: 8/19/16.

Accession Number: 20160819-5098.

Comments Due: 5 p.m. ET 9/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2016.
Kimberly D. Bose,
Secretary.

[FR Doc. 2016-20434 Filed 8-25-16; 8:45 am]

BILLING CODE 6717-01-P